DEPARTMENT OF JUSTICE

Antitrust Division

Notice Pursuant to the National Cooperative Research and Production Act of 1993—National Golf Car Manufacturers Association, Inc.

Notice is hereby given that, on September 10, 2004, pursuant to Section 6(a) of the National Cooperative Research and Production Act of 1993, 15 U.S.C. 4301 et seq. (“the Act”), the National Golf Car Manufacturers Association, Inc. (“NGCMA”) has filed written notifications simultaneously with the Attorney General and the Federal Trade Commission disclosing (1) the name and principal place of business of the standards development organization and (2) the nature and scope of its standards development activities. The notifications were filed for the purpose of invoking the Act's provisions limiting the recovery of antitrust plaintiffs to actual damages under specified circumstances.

Pursuant to Section 6(b) of the Act, the name and principal place of business of the standards development organization is: National Golf Car Manufacturers Association, Inc., Atlanta, GA. The nature and scope of NGCMA's standards development activities are: The development, maintenance and periodic updating of ANSI/NGCMA Z130.1 (safety specifications for the design and operation of golf cars) and ANSI/NGCMA Z135 (safety specifications for the design and operation of personal transport vehicles) through American National Standards Institute consensus group protocols and procedures.

Dorothy B. Fountain,
Deputy Director of Operations, Antitrust Division.

[FR Doc. 04-22892 Filed 10-12-04; 8:45 am]

BILLING CODE 4410-11-M